DEPARTMENT OF TRANSPORTATION

Office of the Secretary

[Dockets OST-2004-17311 and OST-2004-17312]

Application of Omega Air Holdings, LLC, d/b/a Focus Air for Certificate Authority

AGENCY: Department of Transportation.

ACTION: Notice of order to show cause (2004-10-6).

SUMMARY: The Department of Transportation is directing all interested persons to show cause why it should not issue an order finding Omega Air Holdings, LLC d/b/a Focus Air fit, willing, and able, and awarding it certificates of public convenience and necessity authorizing it to engage in interstate and foreign charter air transportation of property and mail.

DATES: Persons wishing to file objections should do so no later than October 28, 2004.

ADDRESSES: Objections and answers to objections should be filed in Dockets OST-2004-17311 and OST-2004-17312 and addressed to Docket Operations (M-30, Room PL-401), U.S. Department of Transportation, 400 Seventh Street, SW., Washington, DC 20590, and should be served upon the parties listed in Attachment A to the order.

FOR FURTHER INFORMATION CONTACT: Mr. William M. Bertram, Air Carrier Fitness Division (X-56, Room 6401), U.S. Department of Transportation, 400 Seventh Street, SW., Washington, DC 20590, (202) 366-1062.

Dated: October 14, 2004.
Karan K. Bhatia,
Assistant Secretary for Aviation and International Affairs.

[FR Doc. 04-23543 Filed 10-20-04; 8:45 am]

BILLING CODE 4910-62-P